NUCLEAR REGULATORY COMMISSION

[Docket No. 50-305]

Nuclear Management Company, LLC; Notice of Withdrawal of Application for Amendment to Facility Operating License

The U.S. Nuclear Regulatory Commission (the Commission) has granted the request of Nuclear Management Company, LLC (the licensee) to withdraw the June 7, 1999, as supplemented February 4, and September 26, 2000, application for proposed amendment to Facility Operating License No. DPR-43 for the Kewaunee Nuclear Power Plant, located in Kewaunee County, Wisconsin. .

The proposed amendment would have revised the Kewaunee Nuclear Power Plant Technical Specifications for the facility's reactor pressure vessel Pressure-Temperature limit curves.

The Commission had previously issued a Notice of Consideration of Issuance of Amendment published in the Federal Register on November 15, 2000 (65 FR 69061). However, by letter dated December 18, 2000, the licensee withdrew the proposed amendment change, but the licensee did not withdraw the exemption requests in the submittals dated June 7, 1999, as supplemented February 4, September 26, and December 18, 2000. The exemption requests are being processed separately.

For further details with respect to this action, see the application for amendment dated June 7, 1999, as supplemented February 4, and September 26, 2000, and the licensee's letter dated December 18, 2000, which withdrew the application for license amendment. Documents may be examined, and/or copied for a fee, at the NRC's Public Document Room, located at One White Flint North, 11555 Rockville Pike (first floor), Rockville, Maryland, and accessible electronically through the ADAMS Public Electronic Reading Room link at the NRC Web site (http://www.nrc.gov).

Dated at Rockville, Maryland, this 21st day of December 2000.
For the Nuclear Regulatory Commission.
John G. Lamb,
Project Manager, Section 1, Project Directorate III, Division of Licensing Project Management, Office of Nuclear Reactor Regulation.

[FR Doc. 00-33151 Filed 12-27-00; 8:45 am]

BILLING CODE 7590-01-P